DEPARTMENT OF COMMERCE

International Trade Administration

[A-523-810]

Polyethylene Terephthalate Resin From the Sultanate of Oman: Preliminary Results of Antidumping Duty Administrative Review; 2018-2019

AGENCY: Enforcement and Compliance, International Trade Administration, Department of Commerce.

SUMMARY: The Department of Commerce (Commerce) preliminarily determines that OCTAL SAOC-FZC (OCTAL), the sole respondent subject to this antidumping duty (AD) administrative review, did not make sales of subject merchandise at less than normal value during the period of review (POR) May 1, 2018 through April 30, 2019. Interested parties are invited to comment on these preliminary results of review.

DATES: Applicable July 24, 2020.

FOR FURTHER INFORMATION CONTACT: Jonathan Hill, AD/CVD Operations, Office IV, Enforcement and Compliance, International Trade Administration, U.S. Department of Commerce, 1401 Constitution Avenue NW, Washington, DC 20230; telephone: (202) 482-3518.

SUPPLEMENTARY INFORMATION:

Background

On July 15, 2019, Commerce published a notice initiating an AD administrative review of polyethylene terephthalate resin (PET resin) from the Sultanate of Oman (Oman) covering OCTAL for the POR.¹ During the course of this administrative review, OCTAL responded to Commerce's questionnaire and supplemental questionnaires and the petitioners filed multiple submissions. For further details, see the accompanying Preliminary Decision Memorandum.²

¹ See Initiation of Antidumping and Countervailing Duty Administrative Reviews, 84 FR 33739 (July 15, 2019).

² See Memorandum, “Decision Memorandum for the Preliminary Results of the 2018-2019 Antidumping Duty Administrative Review of Polyethylene Terephthalate Resin from the Sultanate of Oman,” dated concurrently with, and hereby adopted by, this notice (Preliminary Decision Memorandum).

On January 6, 2020, Commerce extended the deadline for issuing the preliminary results of this review from January 31, 2020 to May 29, 2020.³ On April 24, 2020, Commerce tolled all deadlines in administrative reviews by 50 days, thereby extending the deadline for these preliminary results until July 20, 2020.⁴

³ See Memorandum, “Polyethylene Terephthalate Resin from the Sultanate of Oman: Extension of Deadline for Preliminary Results of Antidumping Duty Administrative Review,” dated January 6, 2020.

⁴ See Memorandum, “Tolling of Deadlines for Antidumping and Countervailing Duty Administrative Reviews in Response to Operational Adjustments Due to COVID-19,” dated April 24, 2020.

Scope of the Order

The merchandise covered by this order is PET resin having an intrinsic viscosity of at least 0.70, but not more than 0.88, deciliters per gram. The merchandise subject to this order is properly classified under subheadings 3907.60.00.30, 3907.61.0000, 3907.61.0010, 3907.61.0050, 3907.69.0000, 3907.69.0010, and 3907.69.0050 of the Harmonized Tariff Schedule of the United States (HTSUS).⁵ Although the HTSUS subheadings are provided for convenience and customs purposes, the written description of the merchandise covered by this order is dispositive. For a full description of the scope of the order, see Preliminary Decision Memorandum.⁶

⁵ On January 27, 2017, Commerce added HTS numbers 3907.61.0000 and 3907.69.0000 to the Case Reference File. See Commerce Memorandum re: “Request from Customs and Border Protection to Update the ACE Case Reference File: Polyethylene Terephthalate Resin form the Sultanate of Oman (A-523-810) dated January 31, 2017. Further, on February 28, 2019, Commerce added HTS numbers 3907.61.0010, 3907.61.0050, 3907.69.0010 and 3907.69.0050 to the Case Reference File. See Memorandum, “Request from U.S. Customs and Border Protection to Update the ACE Case Reference File: Polyethylene Terephthalate Resin from the Sultanate of Oman (A-523-810),” dated February 28, 2019.

⁶ See Preliminary Decision Memorandum.

Methodology

Commerce is conducting this review in accordance with section 751(a) of the Tariff Act of 1930, as amended (the Act). Export price has been calculated in accordance with section 772 of the Act. Normal value was calculated in accordance with section 773 of the Act. For a full description of the methodology underlying our conclusions, see the Preliminary Decision Memorandum. A list of the topics discussed in the Preliminary Decision Memorandum is attached as an appendix to this notice. The Preliminary Decision Memorandum is a public document and is on file electronically via Enforcement and Compliance's Antidumping and Countervailing Duty Centralized Electronic Service System (ACCESS). ACCESS is available to registered users at http://access.trade.gov. In addition, a complete version of the Preliminary Decision Memorandum can be accessed directly at http://enforcement.trade.gov/frn/. The signed Preliminary Decision Memorandum and the electronic version of the Preliminary Decision Memorandum are identical in content.

Preliminary Results of Review

Commerce preliminarily determines that the following weighted-average dumping margin exists for the period May 1, 2018 through April 30, 2019:

Manufacturer/exporter | Weighted- average margin (percent)
OCTAL SAOC—FZC | 0.00

Disclosure and Public Comment

Commerce intends to disclose the calculations used in its analysis to interested parties in this review within five days of the date of publication of this notice in accordance with 19 CFR 351.224(b). Interested parties are invited to comment on the preliminary results of this review. Pursuant to 19 CFR 351.309(c)(1)(ii), interested parties may submit case briefs no later than 30 days after the date of publication of this notice. Rebuttal briefs, limited to issues raised in the case briefs, may be filed no later than five days after the time limit for filing case briefs.⁷ Parties who submit case briefs or rebuttal briefs in this proceeding are requested to submit with each brief: (1) A statement of the issue, (2) a brief summary of the argument, and (3) a table of authorities.⁸ Executive summaries should be limited to five pages total, including footnotes.⁹ Case and rebuttal briefs should be filed using ACCESS.¹⁰ Note that Commerce has temporarily modified certain of its requirements for serving documents containing business proprietary information, until further notice.¹¹

⁷ See 19 CFR 351.309(d)(1).

⁸ See 19 CFR 351.309(c)(2) and (d)(2).

⁹ Id.

¹⁰ See 19 CFR 351.303.

¹¹ See Temporary Rule Modifying AD/CVD Service Requirements Due to COVID-19; Extension of Effective Period, 85 FR 41363 (July 10, 2020).

Pursuant to 19 CFR 351.310(c), any interested party may request a hearing within 30 days of the publication of this notice in the Federal Register. If a hearing is requested, Commerce will notify interested parties of the hearing date and time. Interested parties who wish to request a hearing must submit a written request to the Assistant Secretary for Enforcement and Compliance, filed electronically via ACCESS within 30 days after the date of publication of this notice. Requests should contain: (1) The party's name, address, and telephone number; (2) the number of hearing participants; and (3) a list of the issues to be discussed in the hearing. Issues raised in the hearing will be limited to those raised in the respective case and rebuttal briefs.

We intend to issue the final results of this administrative review, including the results of our analysis of issues raised by the parties in the written comments, within 120 days of publication of these preliminary results in the Federal Register, unless otherwise extended.¹²

¹² See section 751(a)(3)(A) of the Act and 19 CFR 351.213(h)(1).

Assessment Rates

Upon issuance of the final results, Commerce will determine, and U.S. Customs and Border Protection (CBP) shall assess, antidumping duties on all appropriate entries in accordance with 19 CFR 351.212(b)(1). We will calculate importer-specific assessment rates equal to the ratio of the total amount of dumping calculated for examined U.S. sales of merchandise imported by a particular importer, to the total entered value of the reported U.S. sales in accordance with 19 CFR 351.212(b)(1).¹³ Where the respondent's weighted-average dumping margin is zero or de minimis, or an importer-specific assessment rate is zero or de minimis, we will instruct CBP to liquidate the appropriate entries without regard to antidumping duties.¹⁴ The final results of this review shall be the basis for the assessment of antidumping duties on entries of merchandise under review and for future deposits of estimated duties, where applicable.¹⁵

¹³ In these preliminary results, Commerce applied the assessment rate calculation method adopted in Antidumping Proceedings: Calculation of the Weighted-Average Dumping Margin and Assessment Rate in Certain Antidumping Duty Proceedings; Final Modification, 77 FR 8101 (February 14, 2012) (Final Modification for Reviews).

¹⁴ See Final Modification for Reviews, 77 FR at 8103; see also 19 CFR 351.106(c)(2).

¹⁵ See section 751(a)(2)(C) of the Act.

For entries of subject merchandise during the POR produced by the respondent for which it did not know that its merchandise was destined for the United States, we will instruct CBP to liquidate such entries at the all-others rate if there is no rate for the intermediate company(ies) involved in the transaction.

We intend to issue liquidation instructions to CBP 15 days after the date of publication of the final results of this review.

Cash Deposit Requirements

The following cash deposit requirements will be effective for all shipments of PET resin from Oman entered, or withdrawn from warehouse, for consumption on or after the date of publication of this notice of the final results of this administrative review, as provided for by section 751(a)(2)(C) of the Act: (1) The cash deposit rate for OCTAL will be equal to the weighted-average dumping margin established in the final results of this review (except, if the weighted-average dumping margin is zero or de minimis, no cash deposit will be required); (2) for merchandise exported by manufacturers or exporters not covered in this review but covered in a prior segment of the proceeding, the cash deposit rate will continue to be the company-specific rate published for the most recently completed segment of this proceeding in which the manufacturer or exporter participated; (3) if the exporter is not a firm covered in this review, a prior review, or the less-than-fair-value investigation, but the manufacturer is, the cash deposit rate will be the rate established in the most recently completed segment of the proceeding for the manufacturer of the merchandise; and (4) the cash deposit rate for all other manufacturers or exporters will continue to be 7.62 percent ad valorem, the all-others rate established in the less-than-fair-value investigation.¹⁶ These cash deposit requirements, when imposed, shall remain in effect until further notice.

¹⁶ See Certain Polyethylene Terephthalate Resin from Canada, the People's Republic of China, India,

and the Sultanate of Oman: Amended Final Affirmative Antidumping Determination (Sultanate

of Oman) and Antidumping Duty Orders, 81 FR 27979 (May 6, 2016).

Notification to Importers

This notice serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

These preliminary results of administrative review are issued and published in accordance with sections 751(a)(1) and 777(i)(1) of the Act, and 19 CFR 351.213(h)(1).

Dated: July 20, 2020.
Jeffrey I. Kessler,
Assistant Secretary for Enforcement and Compliance.

APPENDIX

List of Topics Discussed in the Preliminary Decision Memorandum

I. Summary

II. Background

III. Scope of the Order

IV. Particular Market Situation Allegation (PMS)

V. Discussion of the Methodology

A. Date of Sale

B. Normal Value Comparisons

C. Product Comparisons

D. EP/CEP

E. Normal Value

VI. Currency Conversion

VII. Recommendation

[FR Doc. 2020-16092 Filed 7-23-20; 8:45 am]

BILLING CODE 3510-DS-P